Title 3—

The President

Proclamation 8485 of March 24, 2010—Greek Independence Day: A National Day of Celebration of Greek and American Democracy, 2010

Correction

In Presidential document 2010-7240 beginning on page 15601 in the issue of Tuesday, March 30, 2010, make the following correction:

On page 15601, the first line of the heading should read “Proclamation 8485 of March 24, 2010”.

Also on page 15601, the second line of the heading should read “Greek Independence Day: A National Day of Celebration of Greek and American Democracy, 2010”.

[FR Doc. C1-2010-7240

Filed 4-12-10; 8:45 am]

Billing Code 1505-01-D